DEPARTMENT OF DEFENSE

Department of the Army, Corps of Engineers

[Permit No. NAP-2017-00135-84]

Notice of Final Federal Agency Action on the Authorization for the Ocean Wind 1 Offshore Wind Farm Project Offshore New Jersey

AGENCY: Department of the Army, U.S. Army Corps of Engineers, DoD.

ACTION: Notice of limitation on claims for judicial review of actions by the U.S. Army Corps of Engineers (USACE).

SUMMARY: USACE announces final agency action on the USACE authorization for the proposed construction and maintenance of the Ocean Wind 1 Offshore Wind Farm Project (the Ocean Wind 1 Project). USACE has issued a permit authorizing the construction and maintenance of the Ocean Wind 1 Project under section 10 of the Rivers and Harbors Act of 1899 (RHA) and section 404 of the Clean Water Act (CWA). The Ocean Wind 1 Project is a “covered project” under title 41 of the Fixing America's Surface Transportation Act.

DATES: A claim seeking judicial review of the USACE authorization of construction and maintenance of the Ocean Wind 1 Project will be barred unless the claim is filed not later than two years after this notice's publication date. If the Federal law that allows for judicial review of the USACE authorization specifies a shorter time period for filing such a claim, then that shorter time period will apply.

FOR FURTHER INFORMATION CONTACT: Mr. Brian Anthony, Biologist, Regulatory Branch, USACE, Philadelphia District, 1650 Arch Street, Philadelphia, Pennsylvania 19103, (215) 656-6728 or napregulatory@usace.army.mil.

SUPPLEMENTARY INFORMATION: Notice is hereby given that USACE has taken final agency action on its authorization for the proposed the Ocean Wind 1 Project by issuing a permit authorizing construction and maintenance of the project under Section 10 of the RHA and Section 404 of the CWA. The majority of the authorized work will occur in the Atlantic Ocean within the Bureau of Ocean Energy Management (BOEM) Renewable Energy Lease Area OCS-A 0498, which is approximately 13 nautical miles (nm) southeast of Atlantic City, New Jersey.

The work authorized under the USACE permit includes the following: (1) the installation of up to 98 wind turbine generators (WTGs) and up to 3 offshore substations (OSSs) with associated scour protection, (2) the installation of 142.7 miles of inter-array cables connecting the WTGs and OSSs, (3) installation of up to 3 export transmission cables with associated secondary cable protection within a 147-mile long offshore export cable corridor extending from the lease area into Lacey Township to the northwest and Ocean City to the southwest, and (4) up to 2 specialized converter substations.

The USACE decision to issue a permit, and the laws under which the action was taken, are described in the BOEM Ocean Wind 1 Final Environmental Impact Statement (FEIS) published on May 26, 2023, in the BOEM Record of Decision (ROD) issued on July 5, 2023, in the USACE ROD issued on October 5, 2023, and in other project records. The BOEM FEIS, ROD, and other documents can be viewed and downloaded from the BOEM project website at https://www.boem.gov/renewable-energy/state-activities/ocean-wind-1. The USACE permit and ROD can be viewed and downloaded from the USACE website at https://www.nap.usace.army.mil/Missions/Regulatory/Wind-Turbine. By this notice, USACE is advising the public of final agency action subject to 42 U.S.C. 4370m-6(a)(1)(A).

Authority: 42 U.S.C. 4370m-6(a)(1)(A).

John P. Lloyd,
Brigadier General, USA, Commanding.

[FR Doc. 2024-07468 Filed 4-8-24; 8:45 am]

BILLING CODE P